DEPARTMENT OF TRANSPORTATION

National Highway Traffic Safety Administration

[NHTSA Docket No. NHTSA-2009-0089]

Notice of Renewal of Charter for the National Emergency Medical Services Advisory Council (NEMSAC)

AGENCY: National Highway Traffic Safety Administration (NHTSA), U.S. Department of Transportation.

ACTION: Notice of Renewal of Charter for the National Emergency Medical Services Advisory Council (NEMSAC).

SUMMARY: The Secretary of Transportation announces renewal of the National Emergency Medical Services Advisory Council to provide advice and recommendations regarding emergency medical services (EMS) matters to the U.S. Department of Transportation, National Highway Traffic Safety Administration and through NHTSA to the Federal Interagency Committee on Emergency Medical Services. The NHTSA's Office of EMS serves as sponsor of the Advisory Council for the Secretary. The purpose of this notice is to inform interested parties of the renewal of NEMSAC and invite public participation in meetings of the Advisory Council.

FOR FURTHER INFORMATION CONTACT: Mr. Drew Dawson, Director, NHTSA Office of EMS, (202) 366-9966 or via e-mail at drew.dawson@dot.gov, 1200 New Jersey Avenue, SE., NTI-140, Washington, DC 20590. Office hours are from 7:45 a.m. to 4:15 p.m. EST, Monday through Friday, except Federal holidays. You may also contact Susan McHenry at the Office of EMS at (202) 366-6540 or via e-mail at susan.mchenry@dot.gov. The Office of EMS fax number is (202) 366-7149.

SUPPLEMENTARY INFORMATION:

Electronic Access

You may submit or retrieve comments online through the Document Management System (DMS) at http://www.regulations.gov/under the docket number listed at the beginning of this notice (NHTSA-2009-0089). The DMS is available 24 hours each day, 365 days each year. Electronic submission and retrieval help guidelines are available under the help section of the Web site. An electronic copy of this document may be downloaded from the Federal Register's home page at http://www.archives.gov and the Government Printing Office's database at http://www.access.gpo.gov/nara.

This notice of NEMSAC's charter renewal is given under the Federal Advisory Committee Act, Public Law 92-463, as amended (5 U.S.C. App.) The NEMSAC will be holding its next meeting on Tuesday and Wednesday June 2 and 3, 2009, at the Marriott Gateway in Crystal City, Arlington, VA. A separate Federal Register Notice will be published to announce that meeting.

Issued on April 23, 2009.
Jeffrey P. Michael,
Associate Administrator for Research and Program Development.

[FR Doc. E9-9623 Filed 4-27-09; 8:45 am]

BILLING CODE 4910-59-P